DEPARTMENT OF COMMERCE

National Oceanic and Atmospheric Administration

[RTID 0648-XE246]

Mid-Atlantic Fishery Management Council (MAFMC); Public Meeting

AGENCY: National Marine Fisheries Service (NMFS), National Oceanic and Atmospheric Administration (NOAA), Commerce.

ACTION: Notice; public meeting.

SUMMARY: The MAFMC's Mackerel, Squid, and Butterfish Monitoring Committee will meet via webinar to develop recommendations for future Atlantic mackerel and butterfish specifications and/or management measures.

DATES: The meeting will be held on Tuesday, September 17, 2024, from 2:30 p.m. to 4 p.m.

ADDRESSES: The meeting will be held via webinar. Connection information and any related materials will be posted to the MAFMC's website calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mackerel, Squid, and Butterfish Monitoring Committee will meet to review previously-adopted 2025 Atlantic mackerel specifications (see summary at https://www.mafmc.org/s/2023-12_MAFMC-Report.pdf), and make any appropriate recommendations. The Monitoring Committee will also make recommendations for 2025-2026 butterfish specifications. Public comments will also be taken.

Special Accommodations

The meeting is physically accessible to people with disabilities. Requests for sign language interpretation or other auxiliary aid should be directed to Shelley Spedden, (302) 526-5251, at least 5 days prior to the meeting date.

Authority: 16 U.S.C. 1801 et seq.

Dated: August 27, 2024.
Alyssa Weigers,
Acting Deputy Director, Office of Sustainable Fisheries, National Marine Fisheries Service.

[FR Doc. 2024-19568 Filed 8-29-24; 8:45 am]

BILLING CODE 3510-22-P